DEPARTMENT OF LABOR

Agency Information Collection Activities; Submission for OMB Review; Cognitive and Psychological Research

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before June 17, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Bureau of Labor Statistics' Behavioral Science Research Center (BSRC) conducts psychological research focusing on the design and execution of the data collection process in order to improve the quality of data collected by the Bureau. The BSRC conducts research aimed at improving data collection quality by assessing questionnaire/form management and administration, as well as issues which relate to interviewer training and interaction with respondents in the interview process. BSRC staff work closely with economists and/or program specialists responsible for defining the concepts to be measured by the Bureau of Labor Statistics' collection programs. The proposed laboratory research will be conducted from Fiscal Year (FY) 2024 through FY 2027 to enhance data quality in the Bureau of Labor Statistics' surveys. Improvements will be made by examining psychological and cognitive aspects of BLS's data collection procedures, including questionnaire design, interviewing procedures, collection modalities, and administrative technology. For additional substantive information about this ICR, see the related notice published in the Federal Register on December 14, 2023 (88 FRN 86681).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: Cognitive and Psychological Research.

OMB Control Number: 1220-0141.

Affected Public: Individuals or Households, State, Local and Tribal Governments, Businesses or other for-profits, Not-for-profit institutions.

Total Estimated Number of Respondents: 31,350.

Total Estimated Number of Responses: 31,350.

Total Estimated Annual Time Burden: 11,349 hours.

Total Estimated Annual Other Costs Burden: $0.

(Authority: 44 U.S.C. 3507(a)(1)(D))

Nicole Bouchet,
Senior Paperwork Reduction Act Analyst.

[FR Doc. 2024-10807 Filed 5-16-24; 8:45 am]

BILLING CODE 4510-24-P